DEPARTMENT OF LABOR

Employment and Training Administration

[TA-W-59,629]

IPC Print Services; Saint Joseph, MI; Notice of Termination of Investigation

Pursuant to section 221 of the Trade Act of 1974, as amended, an investigation was initiated on June 26, 2006 in response to a petition filed on behalf of workers of IPC Print Services, Saint Joseph, Michigan.

The petition has been deemed invalid. Two of the three petitioners were separated from employment more than one-year prior to the date of the petition (June 16, 2006). Consequently, the investigation has been terminated.

Signed at Washington, DC, this 27th day of June 2006.
Linda G. Poole,
Certifying Officer, Division of Trade Adjustment Assistance.

[FR Doc. E6-11870 Filed 7-24-06; 8:45 am]

BILLING CODE 4510-30-P